NATIONAL TRANSPORTATION SAFETY BOARD

Public Hearing

On Tuesday, February 26, 2013 the National Transportation Safety Board (NTSB) will convene an Investigative Hearing to gather additional factual information for the ongoing investigation into the collision of Union Pacific intermodal train No. ZLAAH-22 with Union Pacific (UP) intermodal train No. AAMMLX-22 on June 24, 2012 near Goodwell, Oklahoma. The hearing will begin at 9:00 a.m., is open to all, and the attendance is free (no registration required). All five NTSB Board Members will serve as members of the Board of Inquiry. The NTSB Chairman Deborah A.P. Hersman will preside over the Investigative Hearing.

On June 24, 2012, about 10:01 a.m. central daylight time, eastbound UP freight train ZLAAH-22 and westbound UP freight train AAMMLX-22 collided head on while operating on straight track on UP's Pratt Subdivision near Goodwell, Oklahoma. As a result of the collision, both crewmembers on the eastbound train and one crewmember on the westbound train were fatally injured. The other crewmember on the westbound train jumped from the locomotive prior to the collision and survived with no major injuries. Fuel tanks from the derailed locomotives were ruptured, which created a diesel-fed fire. Damage was estimated at $14.79 million. Although this accident investigation is still ongoing, evidence points to the fact that this collision could have been prevented by a positive train control (PTC) system. Analysis of the accident, along with conclusions and a determination of probable cause, will become public at a later date after a final report on the investigation is completed, and reviewed and adopted by the NTSB Members.

The investigative hearing is being held to discuss UP's management of human error in its operations and system safety programs, and the status of PTC implementation on the UP. The goals of this hearing would be to promote and facilitate dialogue to better understand UP's safety management policies and programs associated with human error, operational accident and incident data collection, and the use such data to improve safety, and the current status of PTC implementation.

Parties to the hearing include the FRA, Union Pacific Railroad, United Transportation Union, and the Brotherhood of Locomotive Engineers & Trainmen.

Order of Proceedings

1. Opening Statement by the Chairman of the Board of Inquiry

2. Introduction of the Board of Inquiry and Technical Panel

3. Introduction of the Parties to the Hearing

4. Introduction of Exhibits by Hearing Officer

5. Overview of the accident, the investigation, and the Union Pacific railroad system by Investigator-In-Charge

6. Calling of Witnesses by Hearing Officer

7. Closing Statement by the Chairman of the Board of Inquiry

Additional information can be found on the web at: http://www.ntsb.gov/news/events/2013/goodwell_ok/index.html.

The accident docket is DCA12MR005.

The Investigative Hearing will be held in the NTSB Board Room and Conference Center, located at 429 L'Enfant Plaza E. SW., Washington, DC. The public can view the hearing in person or by live webcast at www.ntsb.gov. Webcast archives are generally available by the end of the next day following the forum, and Webcasts are archived for a period of 3 months from after the date of the event.

Individuals requesting specific accommodations should contact Ms. Rochelle Hall at (202) 314-6305 or by email at Rochelle.Hall@ntsb.gov by Friday, February 22, 2013.

NTSB Media Contact: Mr. Terry Williams—williat@ntsb.gov.

NTSB Investigative Hearing Officer: Mr. Michael E. Hiller—michael.hiller@ntsb.gov.

Dated: February 12, 2013.
Candi R. Bing,
Federal Register Liaison Officer.

[FR Doc. 2013-03605 Filed 2-14-13; 8:45 am]

BILLING CODE 7533-01-P